ENVIRONMENTAL PROTECTION AGENCY

[EPA-R01-OW-2006-0435; FRL-8200-3]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the waters of Plymouth Bay, Plymouth Harbor, Kingston Bay, and Duxbury Bay, Massachusetts; their respective coastal waters and coastal tidal rivers covered under this determination.

ADDRESSES: Docket: All documents in the docket are listed in the www.regulations.gov index. Although listed in the index, some information is not publicly available, e.g., CBI or other information whose disclosure is restricted by statute. Certain other material, such as copy-righted material, will be publicly available only in hard copy. Publicly available docket materials are available electronically in www.regulations.gov.

FOR FURTHER INFORMATION CONTACT: Ann Rodney, U. S. Environmental Protection Agency—New England Region, One Congress Street, Suite 1100, COP, Boston, MA 02114-2023. Telephone: (617) 918-0538. Fax number: (617) 918-1505. e-mail address: Rodney.ann@epa.gov.

SUPPLEMENTARY INFORMATION: This Notice of Determination is for the waters of Plymouth Bay, Plymouth Harbor, Kingston Bay, and Duxbury Bay, Massachusetts. The area of designation includes:

North to include the northernmost reaches of the Back River—42°04′06″ N-70°39′12″ W; West to Kingston—Route 3A bridge over the Jones River—41°59′48″ N-70°44′30″ W; South to Plymouth—Route 3A bridge over the Eel River and southernmost waters of Warren Cove—41°56′51″ N-70°37′55″ W; Duxbury municipal boundary—42°04′22″ N-70°38′55″ W; East to navigational marker N “8” located off Howland Ledge—42°04′36″ N-70°36′48″ W; South to navigational marker RW “GP” Bell located east of Gurnet Point—41°59′57″ N-70°35′03″ W; South to navigation Marker R “12” Whistle located off Mary Ann Rocks—41°55′07″ N-70°33′22″ W; South to navigation marker RW “CC” Bell located off the Cape Cod Canal—41°48′52″ N-70°27′38″ W; and West to Plymouth municipal boundary—41°48′38″ N-70°32′13″ W.

The delineation places the eastern boundary 9,900 feet seaward of Duxbury Beach at the public parking area; 4,775 feet seaward of Gurnet Point; 6,775 feet seaward of Manomet Point; and 15,000 feet seaward of Peaked Cliff.

On June 1, 2006, notice was published that the State of Massachusetts had petitioned the Regional Administrator, Environmental Protection Agency, to determine that adequate facilities for the safe and sanitary removal and treatment of sewage from all vessels are reasonably available for the waters of Plymouth Bay, Plymouth Harbor, Kingston Bay, and Duxbury Bay, Massachusetts and their respective coastal waters and coastal tidal rivers. No comments were received on this petition.

The petition was filed pursuant to section 312 (f) (3) of Public Law 92-500, as amended by Public laws 95-217 and 100-4, for the purpose of declaring these waters a “No Discharge Area” (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to EPA by the Commonwealth of Massachusetts certifies that there are six pumpout facilities at four locations located within the proposed area. A list of the facilities, with phone numbers, locations, and hours of operation is appended at the end of this determination.

Based on the examination of the petition and its supporting documentation and information from site visits by EPA New England staff, EPA has determined that adequate facilities for the safe and sanitary removal and treatment of sewage from all vessels are reasonably available for the area covered under this determination.

This determination is made pursuant to section 312(f)(3) of Public Law 92-500, as amended by Public Laws 95-217 and 100-4.

List of Pumpouts in the Proposed Area
Name | Location | Contact information | Hours of operation (Call ahead to verify) | Mean low water depth (in feet) | Fee
Brewer's Marine | Plymouth Harbor | VHF 9, 72, 508-746-4500, bpm@bby.com | April 1-Dec. 15 7 am-5 pm | 9 | None.
Plymouth Harbormaster Pumpout Boat | Plymouth Harbor @ Town Pier | VHF 9, 16, 508-830-4182 | May 1-Nov. 1 Pumpout boat Daily 10 am-6 pm | N/A | None.
Plymouth Shore Side Pumpout at Town Pier | Plymouth Harbor @ Town Pier | VHF 9, 508-830-4182 | May 1-Nov. 1 Self-Serve 24 hrs | 8 | None.
Duxbury Harbormaster Pumpout Boat | Snug Harbor | VHF 16, 781-934-2866 | May 1-Nov. 1 Spring 9 am-5 pm Summer 7 am-7 pm Fall 9 am-5 pm | N/A | None.
Duxbury Shore Side Pumpout | Duxbury Town Pier | VHF 16, 781-934-2866 | May 1-Nov. 1 Spring 9 am-5 pm Summer 7 am-7 pm Fall 9 am-5 pm | 6 | None.
Kingston Harbormaster | Town Landing | VHF 9, 781-585-0519 | Apr. 1-Nov. 1 8 am-4 pm | 3 | None.

Dated: July 11, 2006.
Robert W. Varney,
Regional Administrator, New England Region.

[FR Doc. E6-11530 Filed 7-19-06; 8:45 am]

BILLING CODE 6560-50-P